OFFICE OF PERSONNEL MANAGEMENT

[OPM FORM 1673; OMB No. 3206-0232]

Proposed Collection: Comment Request for Review of an Expiring Information Collection: Procedures for Submitting Compensation and Leave Claims

AGENCY: U.S. Office of Personnel Management.

ACTION: Notice.

SUMMARY: In accordance with the Paperwork Reduction Act of 1995 (Pub. L. 104-13, May 22, 1995), this notice announces that the U.S. Office of Personnel Management (OPM) intends to submit to the Office of Management and Budget (OMB) a request for review of a revised information collection. OPM Form 1673, Procedures for Submitting Compensation and Leave Claims, is used to collect information from current and former Federal civilian employees who are submitting a claim for compensation and/or leave. OPM needs this information in order to adjudicate the claim.

Approximately 50 claims are submitted annually. It takes approximately 60 minutes to complete the form. The annual estimated burden is 50 hours.

Comments are particularly invited on:

—Whether this collection of information is necessary for the proper performance of functions of OPM, and whether it will have practical utility;

—Whether our estimate of the public burden of this collection is accurate, and based on valid assumptions and methodology; and

—Ways in which we can minimize the burden of the collection of information on those who are to respond, through use of the appropriate technological collection techniques or other forms of information technology.

For copies of this proposal, contact Mary Beth Smith-Toomey at (202) 606-8358, FAX (202) 418-3251, or e-mail to mbtoomey@opm.gov. Please include a mailing address with your request.

DATES: Comments on this proposal should be received within 60 calendar days from the date of this publication.

ADDRESSES: Send or deliver comments to—Robert D. Hendler, Classification and Pay Claim Program Manager, Center for Merit System Accountability, Division for Human Capital Leadership and Merit System Accountability, U.S. Office of Personnel Management, 1900 E Street, NW., Room 6484, Washington, DC 20415.

U.S. Office of Personnel Management.
Howard Weizmann,
Deputy Director.

[FR Doc. E8-13517 Filed 6-16-08; 8:45 am]

BILLING CODE 6325-43-P